DEPARTMENT OF HEALTH AND HUMAN SERVICES

National Institutes of Health

Center for Scientific Review; Cancellation of Meeting

Notice is hereby given of the cancellation of the Center for Scientific Review Special Emphasis Panel RFA-OD-22-028, May 01, 2025, 9:30 a.m. to May 02, 2025, 6:30 p.m., National Institutes of Health, Rockledge II, 6701 Rockledge Drive, Bethesda, MD 20892 which was published in the Federal Register on April 7, 2025, 90 FR 15009, Doc. No. 2025-05881.

This notice is being amended to announce that the meeting is cancelled.

Dated: April 7, 2025.
Sterlyn H. Gibson,
Program Specialist, Office of Federal Advisory Committee Policy.

[FR Doc. 2025-06176 Filed 4-10-25; 8:45 am]

BILLING CODE 4140-01-P